DEPARTMENT OF LABOR

Employment and Training Administration

[TA-W-54,178]

Drexel Heritage Furniture Industries, Plant 2, Marion, NC; Notice of Revised Determination on Reconsideration Regarding Eligibility To Apply for Worker Adjustment Assistance and Alternative Trade Adjustment Assistance

By letter dated March 27, 2004, the company requested administrative reconsideration regarding Alternative Trade Adjustment Assistance (ATAA). The certification was signed on March 5, 2004. The determination notice will soon be published in the Federal Register.

The initial investigation determined that the workers possessed skills that were easily transferable.

The company provided new information to show that the workers possess skills that are not easily transferable. The initial investigation determined that at least five percent of the workforce at the subject firm is at least fifty years of age and that competitive conditions within the industry are adverse.

Conclusion

After careful review of the additional facts obtained on reconsideration, I conclude that the requirements of Section 246 of the Trade Act of 1974, as amended, have been met for workers at the subject firm.

In accordance with the provisions of the Act, I make the following certification:

All workers of at Drexel Heritage Furniture Industries, Plant 2, Marion, North Carolina, who became totally or partially separated from employment on or after January 30, 2003 through March 5, 2006, are eligible to apply for adjustment assistance under section 223 of the Trade Act of 1974, and are also eligible to apply for alternative trade adjustment assistance under section 246 of the Trade Act of 1974.

Signed in Washington, DC, this 19th day of April, 2004.
Elliott S. Kushner,
Certifying Officer, Division of Trade Adjustment Assistance.

[FR Doc. E4-959 Filed 4-29-04; 8:45 am]

BILLING CODE 4510-13-P